DEPARTMENT OF COMMERCE

National Telecommunications and Information Administration

First Responder Network Authority Board Special Meeting

AGENCY: National Telecommunications and Information Administration, U.S. Department of Commerce.

ACTION: Notice of Public Meeting of the First Responder Network Authority.

SUMMARY: The Board of the First Responder Network Authority (FirstNet) will hold a Special Meeting via telephone conference (teleconference) on May 8, 2013.

DATES: The Special Meeting will be held on Wednesday, May 8, 2013, from 4:30 p.m. to 5:30 p.m. Eastern Daylight Time.

ADDRESSES: The Special Meeting will be conducted via teleconference. Members of the public may listen to the meeting by dialing toll-free 1 (888) 469-1931 and entering passcode 9056016. Due to the limited number of ports, attendance via teleconference will be on a first-come, first-served basis.

FOR FURTHER INFORMATION CONTACT: Uzoma Onyeije, Secretary, FirstNet, U.S. Department of Commerce, 1401 Constitution Avenue NW., Washington, DC 20230: telephone (202) 482-0016; email uzoma@firstnet.gov. Please direct media inquiries to NTIA's Office of Public Affairs, (202) 482-7002.

SUPPLEMENTARY INFORMATION:

Background: The Middle Class Tax Relief and Job Creation Act of 2012 (Act), Public Law 112-96, 126 Stat. 156 (2012), created FirstNet as an independent authority within the NTIA. The Act directs FirstNet to establish a single nationwide, interoperable public safety broadband network. The FirstNet Board is responsible for making strategic decisions regarding FirstNet's operations. As provided in section 4.08 of the FirstNet Bylaws, the Board through this Notice provides at least two days' notice of a Special Meeting of the Board to be held on May 8, 2013. The Board may, by a majority vote, close a portion of the Special Meeting as necessary to preserve the confidentiality of commercial or financial information that is privileged or confidential, to discuss personnel matters, or to discuss legal matters affecting FirstNet, including pending or potential litigation. See 47 U.S.C. 1424(e)(2).

Matters to Be Considered: NTIA will post an agenda for the Special Meeting on its Web site, http://www.ntia.doc.gov/category/firstnet prior to the meeting. The agenda topics are subject to change.

Time and Date: The Special Meeting will be held on May 8, 2013, from 4:30 p.m. to 5:30 p.m. Eastern Daylight Time. The times and dates are subject to change. Please refer to NTIA's Web site, http://www.ntia.doc.gov/category/firstnet for the most up-to-date information.

Other Information: The teleconference for the Special Meeting is open to the public. On the date and time of the Special Meeting, members of the public may call toll-free 1 (888) 469-1931 and enter passcode 9056016 to listen to the meeting. If you experience technical difficulty, please contact Helen Shaw by telephone (202) 482-1157; or via email hshaw@ntia.doc.gov. Public access will be limited to listen-only. Due to the limited number of ports, attendance via teleconference will be on a first-come, first-served basis. The Special Meeting is accessible to people with disabilities. Individuals requiring accommodations are asked to notify Mr. Onyeije, by telephone (202) 482-0016 or email uzoma@firstnet.gov, at least two days (2) business days before the meeting.

Records: NTIA maintains records of all Board proceedings. Board minutes will be available at http://www.ntia.doc.gov/category/firstnet.

Dated: May 1, 2013.
Kathy D. Smith,
Chief Counsel.

[FR Doc. 2013-10663 Filed 5-3-13; 8:45 am]

BILLING CODE 3510-60-P